ENVIRONMENTAL PROTECTION AGENCY

[ER-FRL-6608-1]

Environmental Impact Statements and Regulations; Availability of EPA Comments

Availability of EPA comments prepared May 22, 2000 Through May 26, 2000 pursuant to the Environmental Review Process (ERP), under Section 309 of the Clean Air Act and Section 102(2)(c) of the National Environmental Policy Act as amended. Requests for copies of EPA comments can be directed to the Office of Federal Activities at (202) 564-7167.

An explanation of the ratings assigned to draft environmental impact statements (EISs) was published in FR dated April 14, 2000 (65 FR 20157).

Draft EISs

ERP No. D-AFS-L65348-ID Rating EC2, Idaho Panhandle National Forests, Small Sales, Harvesting Dead and Damaged Timber, Coeur d'Alene River Range District, Kootenai and Shoshone Counties, ID.

Summary: EPA expressed environmental concerns about potential adverse impacts to old growth units and the level and nature of risk to landowners from wildfire from the proposed actions.

ERP No. D-AFS-L65349-ID Rating EC2, Warm Springs Ridge Vegetation Management Project, Improve Forest Condition, Boise National Forest, Cascade Resource Area, Boise County, ID.

Summary: EPA expressed environmental concerns about potential adverse impacts to already impaired streams within the watershed. EPA recommends that the final EIS supply additional information on watershed condition and proposed restoration strategies.

ERP No. D-TVA-E39052-MS Rating EO2, Union County Multipurpose Reservoir/Other Water Supply Alternatives Project, To Provide an Adequate and Reliable Water Supply, COE Section 404 Permit and NPDES Permit, City of New Alban, Union County, MS.

Summary: EPA raised objections to foreseeable reservoir water quality impacts and engineering design uncertainties. Omission of water conservation and reuse as an alternative should be re-evaluated for the FEIS. EPA could favor the pipeline alternative, depending on additional requested information regarding the impacts on the Tennessee-Tombigbee Waterway source water and potential interbasin water transfer issues.

ERP No. DS-COE-K32046-CA Rating EC2, Port of Los Angeles Channel Deepening Project, To Improve Navigation and Disposal of Dredge Material for the Inner Harbor Channels, Los Angeles County, CA.

Summary: EPA expressed environmental concerns regarding potential impacts to air quality and aquatic resources, indirect and cumulative impacts, environmental justice considerations, and mitigation measures proposed in the supplemental EIS. EPA is concerned that the EIS fails to address hazardous air pollutants (air toxics) currently emitted at the Port and reasonably foreseeable air toxic emissions that could occur under the project.

Final EISs

ERP No. F-AFS-L65302-AK, Kuakan Timber Sale, Timber Harvesting in the Kuakan Project Area, Implementation, Deer Island within the Wrangell Ranger District, Stikine Area of the Tongass National Forest, AK.

Summary: No formal comment letter was sent to the preparing agency.

ERP No. FB-NOA-E86002-00 Fishery Management Plan (FMP), Regulatory Impact Review, Snapper-Grouper Complex, South Atlantic Region.

Summary: EPA has no objections to the proposed plan. EPA strongly supports the proposed stock reassessment every two years and adaptive management approach of the FMP. While agreeing with the overall FMP, EPA prefers the alternative to enact a moratorium on red porgy fishing.

Dated: June 6, 2000.
Ken Mittelholtz,
Environmental Protection Specialist, Office of Federal Activities.

[FR Doc. 00-14669 Filed 6-8-00; 8:45 am]

BILLING CODE 6560-50-U